DEPARTMENT OF EDUCATION

Notice of Proposed Information Collection Requests

AGENCY: Department of Education.

ACTION: Notice of proposed information collection requests.

SUMMARY: The Director, Information Collection Clearance Division, Regulatory Information Management Services, Office of Management, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by August 7, 2009.

ADDRESSES: Written comments regarding the emergency review should be addressed to the Office of Information and Regulatory Affairs, Attention: Education Desk Officer, Office of Management and Budget; 725 17th Street, NW., Room 10222, New Executive Office Building, Washington, DC 20503 or e-mailed to oira_submission@omb.eop.gov or faxed to (202) 395-5806.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Director, Information Collection Clearance Division, Regulatory Information Management Services, Office of Management, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner, (3) is the estimate of burden accurate; (4) how might the Department enhance the quality, utility, and clarity of the information to be collected, and (5) how might the Department minimize the burden of this collection on respondents, including through the use of information technology.

Dated: July 21, 2009.
Angela C. Arrington,
Director, Information Collection Clearance Division, Regulatory Information Management Services, Office of Management.

Office of Special Education and Rehabilitative Services

Type of Review: New.

Title: Report on IDEA Part B Maintenance of Effort Reduction (34 CFR 300.205(a)) and Coordinated Early Intervening Services (34 CFR 300.226)

Abstract: This package provides instructions and forms necessary for States to report the provisions of coordinated early intervening services (CEIS) and maintenance of effort (MOE) reduction in IDEA. The form satisfies reporting requirements and is used by OSEP to monitor SEAs and for Congressional reporting.

Additional Information:OSEP has not previously exercised its authority under 20 U.S.C. 1418(a)(3), which allows the Secretary to annually collect any information that may be needed to implement IDEA, to collect the information describe above because the Part B amounts received by LEAs from fiscal year to fiscal year rarely increased by an amount that would warrant an LEA to take advantage of the provisions of 34 CFR 300.205(a). Further, it has been assumed that LEAs are exercising their responsibilities under 34 CFR 300.226(d). However, due to the enactment of ARRA and the disbursement of $11.7 billion in IDEA Part B ARRA funds to LEAs (in addition to the regular FY 09 appropriation of $11.8 billion), the FY 2009 allocation for more LEAs far exceed those of FY 2008; thereby making it advantageous for these LEAs to reduce their MOE under 34 CFR 300.205 (a) and to reserve an amount under 34 CFR 300.226 to provide CEIS. Therefore, it is now necessary to collect information on the implementation of 34 CFR §§ 300.205 (a) and 300.226. Collecting this information will allow the Department to Monitor the reduction of MOE; Determine the amount of FY 2009 Part B funds (both regular IDEA and IDEA ARRA funds) reserved for CEIS; Exercise our fiduciary responsibilities to prevent fraud, waste and abuse and to ensure the effective use of FY 2009 Part B funds; Provide information to Congress and the public regarding LEAs that took advantage of these flexibilities.

Frequency: Annually.

Affected Public:State, Local, or Tribal Gov't, SEAs or LEAs.

Reporting and Recordkeeping Hour Burden:

Responses: 60.

Burden Hours: 1,032,480.

Requests for copies of the proposed information collection request may be accessed from http://edicsweb.ed.gov, by selecting the “Browse Pending Collections” link and by clicking on link number 4095. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-17757 Filed 7-24-09; 8:45 am]

BILLING CODE 4000-01-P